Title 3—

The President

Presidential Determination No. 2006-27 of September 29, 2006

Waiving Prohibition on United States Military Assistance With Respect to Various Parties to the Rome Statute Establishing the International Criminal Court

Memorandum for the Secretary of State

Consistent with the authority vested in me by the Constitution and the laws of the United States, including section 2007 of the American Servicemembers' Protection Act of 2002 (the “2002 Act”), title II of Public Law 107-206 (22 U.S.C. 7421 et seq.), I hereby:

• Determine that it is important to the national interest of the United States to waive the prohibition of section 2007(a) of the 2002 Act with respect to Barbados, Bolivia, Brazil, Costa Rica, Croatia, Ecuador, Kenya, Mali, Malta, Mexico, Namibia, Niger, Paraguay, Peru, Samoa, Serbia, South Africa, St. Vincent and the Grenadines, Tanzania, Trinidad and Tobago, and Uruguay with respect to military assistance provided under the International Military Education and Training program, chapter 5 of part II of the Foreign Assistance Act of 1961 (22 U.S.C. 2151 et seq.); and

• Waive the prohibition of section 2007(a) with respect to the military assistance described above with respect to these countries.

You are authorized and directed to report this determination to the Congress and to arrange for its publication in the Federal Register.

THE WHITE HOUSE,

Washington, September 29, 2006.

[FR Doc. 06-9157

Filed 11-7-06; 8:45 am]

Billing code 4710-10-P